DEPARTMENT OF COMMERCE

International Trade Administration

[A-475-818]

Certain Pasta from Italy: Notice of Initiation of New Shipper Antidumping Duty Review

AGENCY: Import Administration, International Trade Administration, Department of Commerce.

SUMMARY: The Department of Commerce (“the Department”) has received a request for a new shipper review of the antidumping duty order on certain pasta from Italy. The request fulfilled all regulatory requirements. Therefore, in accordance with our regulations, we are initiating this new shipper review.

EFFECTIVE DATE: March 7, 2003.

FOR FURTHER INFORMATION CONTACT: James Terpstra or Mark Young at (202) 482-3965 or 482-6397, respectively; AD/CVD Enforcement, Group II, Office VI, Import Administration, International Trade Administration, U.S. Department of Commerce, 14th Street and Constitution Avenue, N.W., Washington, D.C. 20230.

SUPPLEMENTARY INFORMATION:

Background

On December 17, 2002, the Department received a request from a pasta producer, Pastificio Carmine Russo S.p.A. (“Russo”), to conduct a new shipper review of the antidumping duty order on certain pasta from Italy, issued July 24, 1996 (61 FR 38547). This request was made pursuant to section 751(a)(2)(B) of the Tariff Act of 1930, as amended (“the Act”), and 19 CFR 351.214(b) (2002). On February 24, 2003, the Department received an additional submission from Russo in which Russo provided information to the Department describing how Russo was formed as a new corporate entity through a corporate buy-out of its predecessor, Carmine Russo, S.p.A. Because Russo's claim to new shipper status is based, in part, on this information, we will further review this change-in-ownership as part of the new shipper review of the antidumping duty order.

Initiation of Review

Pursuant to 19 CFR 351.214(b), in its request of December 17, 2002, Russo certified that it did not export the subject merchandise to the United States during the period of investigation (“POI”) (May 1, 1994 through April 30, 1995) and that it is not now and never has been affiliated with any exporter or producer who exported the subject merchandise to the United States during the POI. Russo submitted documentation establishing the date on which it first shipped the subject merchandise for export to the United States, the volume of that first shipment, the date of its first sale to an unaffiliated customer in the United States, and the date and volume of all subsequent shipments.

In accordance with section 751(a)(2)(B) of the Act and section 351.214(d) of the Department's regulations, we are initiating a new shipper review of the antidumping duty order on certain pasta from Italy. In accordance with 19 CFR 351.214(h)(i), we intend to issue the preliminary results of this review not later than 180 days from the date of publication of this notice. The standard period of review in a new shipper review initiated in the month immediately following the semiannual anniversary month is the six-month period immediately preceding the semiannual anniversary month.

Antidumping Duty Proceeding | Period to be Reviewed
Italy: Certain Pasta, A-475-818: Pastificio Carmine Russo S.p.A. | 07/01/02 - 12/31/02

Concurrent with the publication of this notice, and in accordance with 19 CFR 351.214(e), we will instruct the U.S. Customs Service to allow, at the option of the importer, the posting of a bond or security in lieu of a cash deposit for each entry of the merchandise exported by the company listed above, until the completion of the review.

Interested parties may submit applications for disclosure under administrative protective order in accordance with 19 CFR 351.305.

This initiation notice is in accordance with section 751(a) of the Act (19 U.S.C. 1675(a)) and 19 CFR 351.214.

Dated: February 28, 2003.
Holly A. Kuga,
Acting Deputy Assistant Secretary for Import Administration.

[FR Doc. 03-5495 Filed 3-6-03; 8:45 am]

BILLING CODE 3510-DS-S